DEPARTMENT OF AGRICULTURE

Animal and Plant Health Inspection Service

[Docket No. 01-057-1]

International Standards Under the International Plant Protection Convention

AGENCY: Animal and Plant Health Inspection Service, USDA.

ACTION: Notice of meeting.

SUMMARY: We are giving notice of a public meeting on a draft international standard for the environmental impact of quarantine pests, including quarantine pests that are invasive.

Place, Date, and Time of Meeting: The meeting will be held at the Yates Auditorium at the Department of the Interior, 1849 C Street NW., Washington, DC. The meeting will be held on November 15, 2001, from 1 p.m. to 3 p.m. Please use the entrance at C Street.

FOR FURTHER INFORMATION CONTACT: Dr. Ron A. Sequeira, Biological Scientist, CPHST, PPQ, APHIS, 1017 Main Campus Drive, Suite 2500, Raleigh, NC 27606-5202; (919) 513-2662.

SUPPLEMENTARY INFORMATION: The International Plant Protection Convention (IPPC) is a multilateral convention adopted in 1952 for the purpose of securing international cooperation in the control and prevention of the spread and introduction of pests of plants and plant products and to promote appropriate measures for their control. Under the IPPC, the understanding of plant protection has been, and continues to be, broad, encompassing the protection of both cultivated and noncultivated plants from direct or indirect injury by plant pests. Activities addressed by the IPPC include the development and establishment of international plant health standards, the harmonization of phytosanitary activities through emerging standards, the facilitation of the exchange of official and scientific information among countries, and the furnishing of technical assistance to developing countries that are signatories to the IPPC. The IPPC is recognized by the World Trade Organization as the standard-setting body for international plant quarantine issues.

The IPPC is placed under the authority of the United Nations' Food and Agriculture Organization (FAO), and the members of the Secretariat of the IPPC are appointed by the FAO. The IPPC is implemented by national plant protection organizations in cooperation with regional plant protection organizations, the Interim Commission on Phytosanitary Measures (ICPM), and the Secretariat of the IPPC. The United States has played a major role in all standard-setting activities under the IPPC and has representation on FAO's highest governing body, the FAO Conference.

The United States became a contracting party to the IPPC in 1972 and has been actively involved in furthering the work of the IPPC ever since. The IPPC was amended in 1979, and the amended version entered into force in 1991 after two-thirds of the contracting countries accepted the amendment. More recently, in 1997, contracting parties completed negotiations on further amendments that were approved by the FAO Conference and submitted to the parties for acceptance. This 1997 amendment updated phytosanitary concepts and formalized the standard-setting structure within the IPPC. The 1997 amended version of the IPPC will enter into force once two-thirds of the current contracting parties notify the Director General of FAO of their acceptance of the amendment.

The IPPC has been, and continues to be, administered at the national level by plant quarantine officials whose primary objective is to safeguard plant resources from injurious pests. In the United States, the national plant protection organization is the Plant Protection and Quarantine unit of the Animal and Plant Health Inspection Service.

In June 2000, an IPPC working group identified the need to supplement the current pest risk analysis guidelines with additional guidance regarding the consideration of potential environmental risks of plant pests and recommended that a draft standard be developed. The entire report from the June 2000 working group meeting is available on the Internet at http://www.fao.org/waicent/faoinfo/agricult/agp/agpp/pq/en/archive/wg_gmos/recom.htm.

In April 2001, the IPPC's ICPM agreed to establish a technical expert working group to develop an IPPC standard for considering the environmental impact of quarantine pests, including quarantine pests that are invasive. The technical expert working group charged with developing the draft standard met in August 2001.

The first draft of the standard includes consideration of the following five elements relating to potential environmental risks of plant pests, which were identified in the June 2000 working group meeting:

1. Reduction or elimination of endangered (or threatened) native plant species;

2. Reduction or elimination of a keystone plant species (a species that plays a major role in the maintenance of an ecosystem);

3. Reduction or elimination of a plant species that is a major component of a native ecosystem;

4. Ecosystem destabilization caused by a change to plant biological diversity;

5. Control, eradication, or management programs that would be needed if a quarantine pest were introduced, and impacts of such programs (e.g., pesticides or release of nonindigenous predators and parasites) on biological diversity.

The draft standard is available on the Internet at http://www.fao.org/ag/agp/agpp/pq/ and http://www.aphis.usda.gov/ppq/pim/standards/#01.

The draft standard is a supplement to the existing “International Standard for Phytosanitary Measures Number 11 (Pest Risk Analysis for Quarantine Pests),” which is available on the Internet at http://www.fao.org/ag/agp/agpp/pq.

The purpose of the meeting is to solicit public comment on the draft standard as part of the country consultation process. The meeting will be open to the public and the public is invited to participate. Also, you may file written statements on meeting topics with the Committee before or after the meeting by sending them to the person listed under FOR FURTHER INFORMATION CONTACT, or you may file written statements at the meeting. Please refer to Docket No. 01-057-1 when submitting your statements.

Preregistration is not required. However, upon arrival, all participants will be asked to sign in. Also, members of the public will be required to present valid photo identification, and Federal employees will be required to present valid government identification.

Done in Washington, DC, this 19th day of October 2001.
W. Ron DeHaven,
Acting Administrator, Animal and Plant Health Inspection Service.

[FR Doc. 01-26895 Filed 10-24-01; 8:45 am]

BILLING CODE 3410-34-U